DEPARTMENT OF AGRICULTURE

Animal and Plant Health Inspection Service

[Docket No. APHIS-2018-0011]

Notice of Determination; Changes to the Chronic Wasting Disease Herd Certification Program Standards

AGENCY: Animal and Plant Health Inspection Service, USDA.

ACTION: Notice.

SUMMARY: We are updating the Chronic Wasting Disease (CWD) Herd Certification Program Standards. In a previous notice, we made available to the public for review and comment proposed changes to the CWD Program Standards to provide guidance on how to meet CWD Herd Certification Program and interstate movement requirements.

DATES: The updated program standards became available on May 20, 2019.

FOR FURTHER INFORMATION CONTACT: Dr. Tracy Nichols, Staff Officer, Cervid Health Team, Surveillance, Preparedness, and Response Services, VS, APHIS, USDA, 2150 Centre Avenue, Bldg. B, Fort Collins, CO 80526; (970) 494-7380.

SUPPLEMENTARY INFORMATION: Chronic wasting disease (CWD) is a transmissible spongiform encephalopathy of cervids (members of Cervidae, the deer family). Species currently known to be susceptible to CWD include elk, mule deer, moose, white-tailed deer, sika deer, muntjac, reindeer, and black-tailed deer.

In 2014, the Animal and Plant Health Inspection Service (APHIS) implemented the National CWD Herd Certification Program (HCP), a voluntary Federal-State-industry cooperative program administered by APHIS and implemented by participating States. Currently, 28 States participate in the program. States and herd owners choosing to participate must comply with the provisions of 9 CFR parts 55 and 81 (referred to below as the regulations), which include requirements for animal identification, interstate movement, fencing, recordkeeping, herd inspections and inventories, animal mortality testing, and response to any findings of CWD-exposed, -suspect, or -positive herds. APHIS monitors the approved State HCPs to ensure consistency with Federal standards by means of annual State reporting. With each year of successful surveillance, participating herds will advance in status. After 5 years with no evidence of CWD, APHIS will certify the herd for CWD. Only captive cervids from certified herds for CWD may move interstate.

On March 29, 2018, we published in the Federal Register (83 FR 13469-13470, Docket No. APHIS-2018-0011) a notice of availability of a revised version of the CWD Herd Certification Program Standards. These standards provide guidance on how to meet the program and interstate movement requirements referenced above. The proposed revisions addressed concerns of State and industry participants about the existing standards.

We solicited comments on the CWD Herd Certification Program Standards for 30 days ending on April 30, 2018. We extended the deadline for comments until May 30, 2018, in a document published in the Federal Register on April 26, 2018 (83 FR 18264, Docket No. APHIS-2018-0011).¹ We received 334 comments by that date. They were from producers, industry groups, representatives of State governments, and private citizens. We received a number of comments on the content of the regulations themselves and not on the specifics of the revised CWD Program Standards. As the notice only served to alert the public of the availability of that document for review and comment, any comments focusing on the regulations themselves are outside the scope of the request for comment and will not be addressed. The remaining comments provided valuable insight into stakeholder concerns and priorities.

¹ To view the notice, the CWD Herd Certification Standards, and the comments we received, go to http://www.regulations.gov/#!docketDetail;D=APHIS-2018-0011.

After reviewing the comments, where practicable and within the bounds of our authority, we made changes to the CWD Program Standards in order to address commenter concerns while maintaining program integrity. The revisions cover a variety of topics including: Adding guidelines for live animal testing in specific situations; clarifying how disease investigations should be handled; aligning with the regulatory requirement for mortality testing; simplifying fencing requirements; adding biosecurity recommendations; and describing the Agency's intended approach to update the CWD-susceptible species list. We also outline factors for determining indemnity and include a table with possible reductions in herd certification status that States may consider for herd owners that do not submit required mortality surveillance samples or consistently submit unusable testing samples.

The revised CWD Program Standards are in effect and may be found on the internet at https://www.aphis.usda.gov/aphis/newsroom/stakeholder-info/sa_by_date/2019/sa-05/cwd-standards.

Pursuant to the Congressional Review Act (5 U.S.C. 801 et seq.), the Office of Information and Regulatory Affairs designated this action as a non-major rule, as defined by 5 U.S.C. 804(2).

Done in Washington, DC, this 9th day of October 2019.
Kevin Shea,
Administrator, Animal and Plant Health Inspection Service.

[FR Doc. 2019-22453 Filed 10-15-19; 8:45 am]

BILLING CODE 3410-34-P